DEPARTMENT OF HOMELAND SECURITY

Coast Guard

[USCG-2004-18977]

Collection of Information Under Review by Office of Management and Budget (OMB): OMB Control Numbers: 1625-0024, 1625-0044, and 1625-0045

AGENCY: Coast Guard, DHS.

ACTION: Request for comments.

SUMMARY: In compliance with the Paperwork Reduction Act of 1995, this request for comments announces that the Coast Guard has forwarded three Information Collection Reports (ICRs)—(1) 1625-0024, Safety Approval of Cargo Containers; (2) 1625-0044, Outer Continental Shelf Activities—Title 33 CFR Subchapter N; and (3) 1625-0045, Adequacy Certification for Reception Facilities and Advance Notice—33 CFR Part 158—abstracted below to the Office of Information and Regulatory Affairs (OIRA) of the Office of Management and Budget (OMB) for review and comment. These ICRs describe the information we seek to collect from the public. Review and comment by OIRA ensures that we impose only paperwork burdens commensurate with our performance of duties.

DATES: Please submit comments on or before January 3, 2005.

ADDRESSES: To make sure that your comments and related material do not enter the docket [USCG-2004-18977] more than once, please submit them by only one of the following means:

(1) (a) By mail to the Docket Management Facility, U.S. Department of Transportation (DOT), room PL-401, 400 Seventh Street SW., Washington, DC 20590-0001. (b) By mail to OIRA, 725 17th St NW., Washington DC 20503, to the attention of the Desk Officer for the Coast Guard.

(2) (a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2298 and (b) OIRA at 202-395-6566, or e-mail to OIRA at oira-docket@omb.eop.gov attention: Desk Officer for the Coast Guard.

(4) (a) Electronically through the Web Site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the completed ICRs are available through this docket on the Internet at http://dms.dot.gov, and also from Commandant (CG-611), U.S. Coast Guard Headquarters, room 6106 (Attn: Mrs. Bernice Parker-Jones), 2100 Second Street SW., Washington, DC 20593-0001. The telephone number is 202-267-2328.

FOR FURTHER INFORMATION CONTACT: Mrs. Bernice Parker-Jones, Office of Information Management, 202-267-2328, for questions on these documents; or Ms. Andrea M. Jenkins, Program Manager, Docket Operations, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act” below.

Submitting comments: If you submit a comment, please include your name and address, identify the docket number for this request for comment [USCG-2004-18977], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Regulatory History: This request constitutes the 30-day notice required by OIRA. The Coast Guard has already published (69 FR 54300, September 8, 2004) the 60-day notice required by OIRA. That notice elicited no comments.

Request for Comments: The Coast Guard invites comments on the proposed collection of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Number of the Information Collection Reports (ICR) addressed. Comments to DMS must contain the docket number of this request, USCG-2004-18977 comments to OIRA are best assured of having their full effect if OIRA receives them 30 or fewer days after the publication of this request.

Information Collection Requests

1. Title: Safety Approval of Cargo Containers.

OMB Control Number: 1625-0024.

Type of Request: Extension of currently approved collection.

Affected Public: Owners and manufacturers of containers, and organizations that the Coast Guard delegates to act as an approval authority.

Form: None.

Abstract: This collection of information addresses the reporting and recordkeeping requirements for containers in 49 CFR Parts 450-453. These rules are necessary because the U.S. is signatory to the International Convention for Safe Containers (CSC). The CSC requires that all containers be safety approved before they are used in trade. These rules prescribe only the minimum requirements of the CSC.

Burden Estimates: The estimated burden is 73,272 hours a year.

2. Title: Outer Continental Shelf (OCS) Activities—Title 33 CFR Subchapter N.

OMB Control Number: 1625-0044.

Type of Request: Extension of currently approved collection.

Affected Public: Operators of facilities and vessels engaged in activities on the OCS.

Form: CG-5432.

Abstract: The information is needed to ensure compliance with the safety regulations related to OCS activities. The regulations include reporting and recordkeeping requirements for annual inspections of fixed OCS facilities, employee citizenship records, station bills, emergency evacuation plans, and equivalency determinations.

Burden Estimate: The estimated burden is 5,867 hours a year.

3. Title: Adequacy Certification for Reception Facilities and Advance Notice—33 CFR Part 158.

OMB Control Number: 1625-0045.

Type of Request: Extension of currently approved collection.

Affected Public: Owners and operators of reception facilities, and owners and operators of vessels.

Form: CG-5401, CG-5401A, CG-5401B, CG-5401C.

Abstract: Title 33 U.S.C. 1905 give the Coast Guard the authority to certify the adequacy of reception facilities in ports. Reception facilities are needed to receive waste from ships which may not discharge at sea. Under theses regulations in 33 CFR, Parts 151 and 158, there are discharge limitations for oil and oily waste, noxious liquid substances, plastics and other garbage.

Burden Estimate: The estimated burden is 1,058 hours a year.

Dated: November 26, 2004.
R.T. Hewitt,
Assistant Commandant for Command, Control, Communications, Computers, and Information Technology.

[FR Doc. 04-26668 Filed 12-2-04; 8:45 am]

BILLING CODE 4910-15-U